DEPARTMENT OF THE INTERIOR

Fish and Wildlife Service

[FWS-R2-ES-2015-N209; FXES11130200000-167-FF02ENEH00]

Endangered and Threatened Species Permit Applications; Turner Endangered Species Fund, Bozeman, Montana; Correction

AGENCY: Fish and Wildlife Service, Interior.

ACTION: Notice of availability; request for comments; correction.

SUMMARY: On April 2, 2015, we, the U.S. Fish and Wildlife Service (Service), published a notice in the Federal Register announcing receipt of an application from the Turner Endangered Species Fund for an endangered and threatened species permit pursuant to the Endangered Species Act of 1973, as amended (Act). The notice contained an incorrect permit number. The correct permit number is TE-43754A. With this notice, we correct that error. If you sent a comment previously, you need not re-send the comment.

FOR FURTHER INFORMATION CONTACT: Susan Jacobsen, 505-248-6641. If you use a telecommunications device for the deaf, please call the Federal Information Relay Service at 800-877-8339.

SUPPLEMENTARY INFORMATION: In the Federal Register of April 2, 2015 (80 FR 17775), in FR Doc. 2015-07548, on page 17776, in the second column, correct the permit number for applicant “Turner Endangered Species, Fund, Bozeman, Montana,” from “Permit TE-051139” to “Permit TE-43754A.”

Dated: November 5, 2015.
Joy E. Nicholopoulos,
Acting Regional Director, Southwest Region, U.S. Fish and Wildlife Service.

[FR Doc. 2015-29286 Filed 11-16-15; 8:45 am]

BILLING CODE 4333-15-P